FEDERAL COMMUNICATIONS COMMISSION

Public Information Collections Approved by Office of Management and Budget

April 17, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0741.

Expiration Date: 4/30/2004.

Title: Implementation of the Local Competition Provisions of the Telecommunications Act of 1996, CC Docket No. 96-98, Second Report and Order and Memorandum Opinion and Order, Second Order on Reconsideration, CC docket No. 99-273, First Report and Order.

Form No.: N/A.

Respondents: Business or other for-profit.

Estimated Annual Burden: 2000 respondents; 114 hours per response (avg.); 228,030 total annual burden hours (for all collections approved under this control number).

Estimated Annual Reporting and Recordkeeping Cost Burden: $60,000.

Frequency of Response: On occasion; Third Party Disclosure.

Description: In the First Report and Order issued in CC Docket No. 99-273 (FCC 01-27), released January 23, 2001, the Commission adopted several of its tentative conclusions. The Commission concluded that the phrase “in any format” found in section 222(e) of the Communications Act of 1934, as amended, brings within the protections of section 222(e) those entities that seek subscriber list information to publish directories on the Internet. That phrase “in any format” makes clear Congress' intent not to restrict the kinds of directories that could be published using subscriber list information obtained pursuant to section 222(e). Internet databases that contain subscriber list information clearly fall within the very broad category of “directories in any format.” In order for directory publishers to provide accurate directory listings, it is essential that publishers have access to the subscriber list information local exchange carriers (LECs) acquire from their customers. (No. of respondents: 2000; hours per response: 8 hours; total annual burden: 16,000 hours). The Commission determined that competing directory assistance (DA) providers that offer call completion services for local or toll calls, provide telephone exchange, or telephone toll services, respectively, and thus qualify for nondiscriminatory access to LEC local directory assistance databases. The Commission also determined that because LECs do not have monopoly control over national directory assistance databases that LECs obtain from third parties, that LECs are not required to grant competing directory assistance providers nondiscriminatory access to such non-local directory assistance databases. The Commission concluded that LECs should not be required to provide nondicriminatory access to nonlocal directory listings since third parties have the same opportunities to secure the information directly. However, to the extent that a carrier provides access to national DA information to any other DA provider, including another LEC, it must make that same information available to competing DA providers under nondiscriminatory rates, terms, and conditions. The Commission concluded that when a competitive local exchange carrier (CLEC) or an interexchange carrier (IXC) (having entered an interconnection agreement with the relevant LEC) designates a DA provider to act as their agent, that competing DA provider is entitled to nondiscriminatory access to the providing LEC's local DA database. The DA providers database access will be consistent with the terms of the relevant interconnection agreement and with the terms of the DA providers' separate agreements with its carrier principal. The Commission expects that a DA provider's request for access will be accompanied by a letter or other documentation from the CLEC or IXC evidencing its intent that the DA provider receives database access so that it fulfills its obligations to the CLEC or IXC. (No. of respondents: 250; hours per response: 36 hours; total annual burden: 9000 hours). All of the collections implement the requirements of Sections 251 and/or 222 of the Communications Act of 1934, as amended. Obligation to respond: Mandatory.

OMB Control No.: 3060-0756.

Expiration Date: 10/31/2001.

Title: Procedural Requirements and Policies for Commission Processing of Bell Operating Companies Applications for the Provision of In-Region, InterLATA Services Under Section 271 of the Telecommunications Act of 1996.

Form No.: N/A.

Respondents: Business or other for-profit; State, Local or Tribal Government.

Estimated Annual Burden: 75 respondents; 250 hours per response (avg.); 18,820 total annual burden hours.

Estimated Annual Reporting and Recordkeeping Cost Burden: $0.

Frequency of Response: On occasion; Third Party Disclosure.

Description: In a Public Notice released March 23, 2001 (DA 01-734), the Commission updated the general procedural requirements and policies relating to the Commission processing of Bell Operating Company (BOC) applications to provide in-region, interLATA services pursuant to section 271 of the Communications Act of 1934, as amended, 47 U.S.C. Section 271 (Act). A BOC may decide whether and when to file an application. See Public Notice, DA 01-734. a. Submission of Applications by the BOCs. BOCs must file applications which provide information on which the applicant intends to rely in order to satisfy the requirements of section 271. The applications will contain two parts, which include: (1) a stand-alone document entitled Brief in Support of Application by [Bell company name] for Provision of In-region, InterLATA services in [State name] and (2) any supporting documentation. (Number of respondents: 4 BOCs) hours per response: 125 hours per state; total annual burden: 6125 hours). b. Submission on Written Consultations by the State Regulatory Commissions. State regulatory commissions will file any written consultation they wish the Commission to consider early in the application process. (Number of respondents: 49; hours per response: 120 hours; total annual burden: 5880 hours). c. Submission of Written Consultations by the U.S. Department of Justice. The Department of Justice will file its written consultation relating to an application on or before a due date set forth by the Commission in the Initial Public Notice. (Number of respondents: 1; hours per response: 100 hours per state; total annual burden: 4900 hours). d. Submission of Written Comments by Interested Third Parties. Interested third parties may file comments on the applications on or before a due date set forth by the Commission in the Initial Public Notice. All substantive arguments must be made in a legal brief (i.e., Brief in Support, comments, reply, ex parte comments) and not in affidavits or other supporting documentation. All parties submitting confidential information must identify a contact person who will address inquiries relating to access to that confidential information. Each volume of supporting documentation submitted by a party shall contain a table of contents that lists the subject of each tabbed section of that volume. The party shall include a list of all affidavits and the location of and subjects covered by each of those affidavits. Parties shall not incorporate by reference, in their comment or replies, entire documents or significant portion of documents that were filed in other proceedings, such as comments filed in a previous section 271 proceeding. (Number of respondents: 75; hours per response: 25 hours; total annual burden: 1875 hours). e. Replies. All participants in the proceeding may file a reply to any comment made by any other participant, on or before a due date set forth by the Commission in the Initial Public Notice. (Number of respondents: 10; hours per response: 2 hours; total annual burden: 20 hours). f. Motions. A dispositive motion filed with the Commission in a section 271 proceeding will be treated as an early-filed pleading and will not be subject to a separate pleading cycle, unless the Commission or Bureau determines otherwise. Non-dispositive motions will be subject to the default pleading cycle in 47 CFR section 1.45, unless the Commission determines otherwise in a public notice. (No. of respondents: 10; hours per response: 2 hours; total annual burden: 20 hours). All of the requirements are used to ensure that BOCs have complied with their obligations under the Communications Act of 1934, as amended, before being authorized to provide in-region, interLATA services pursuant to section 271. Obligation to respond: Mandatory.

OMB Control No.: 3060-0854.

Expiration Date: 3/31/2004.

Title: Truth-in-Billing Format, CC Docket No. 98-170.

Form No.: N/A.

Respondents: Business or other for-profit.

Estimated Annual Burden: 3099 respondents; 505.2 hours per response (avg.); 1,565,775 total annual burden hours.

Estimated Annual Reporting and Recordkeeping Cost Burden: $9,000,000.

Frequency of Response: On occasion; Third Party Disclosure.

Description: Under Section 201(b) of the Communications Act of 1934, as amended, the charges, practices, and classifications of common carriers must be just and reasonable. The Commission believes that the telephone bill is an integral part of the relationship between a carrier and its customer. The manner in which charges are identified and articulated on the bill is essential to the consumer's understanding of the services that have been rendered, such that a carrier's provision of misleading or deceptive billing information may be unjust and unreasonable practice in violation of Section 201(b). Pursuant to 47 CFR Section 64.201, telephone bills must clearly identify the name of the service provider associated with each charge. (No. of respondents: 3099; hours per response: 10 hours; total annual burden: 30,990 hours). All telephone bills containing wireline common carrier service must (1) separate charges by service provider and (2) clearly and conspicuously identify any change in service providers, including identification of charges from any new service provider. (No. of respondents: 2295; hours per response: 465 hours; total annual burden: 1,067,175 hours). Section 64.201(b) requires that bills for wireline service include for each charge a brief, clear, plain-language description of the services rendered. Section 64.2401(c) requires that, when a bill for local wireline service contains additional carrier charges, the bill must differentiate between those charges for which non-payment could result in termination of local telephone service and those for which it could not. (No. of respondents: 2295; hours per response: 197 hours; total annual burden: 452,115 hours). Section 64.2401(d) requires that all telephone bills contain clear and conspicuous disclosure of any information that the subscriber may need to make inquiries about, or contest, charges on the bill. (No. of respondents: 3099; hours per response: 5 hours; total annual burden: 15,495 hours). The information will be used by consumers to help them understand their telephone bills. Consumers need this information to protect themselves against fraud and to help them resolve billing disputes. Obligation to respond: Required to obtain or retain benefits.

OMB Control No.: 3060-0855.

Expiration Date: 8/31/2001.

Title: Telecommunications Reporting Worksheet and Associated Requirements, CC Docket No. 96-45.

Form No.: FCC Form 499-Q.

Respondents: Business or other for-profit.

Estimated Annual Burden: 5000 respondents; 16.25 hours per response (avg.); 81,250 total annual burden hours.

Estimated Annual Reporting and Recordkeeping Cost Burden: $0.

Frequency of Response: Annually; Quarterly;

Description: In the Report and Order and Order on Reconsideration issued in CC Docket No. 96-45 (FCC 01-85), released March 14, 2001, the Commission modified the existing methodology used to assess contributions that carriers make to the federal universal service support mechanisms. Specifically, the Commission modified the existing contribution methodology to reduce the interval between the accrual of revenues and the assessment of universal service contributions based on those revenues. Currently, contributions to the federal universal service support mechanisms are based on carriers' interstate and international end-user telecommunications revenues from the prior year. With the modification, the Commission shortened the interval between the accrual of revenues and assessment based on those revenues by six months. Under the revised methodology carriers are required to file on a quarterly basis the new FCC Form 499-Q to report their revenues from the prior quarter. Carriers will file the initial FCC Form 499-Q on May 11, 2001, reporting revenue data from the first quarter of 2001. Thereafter, carriers will file FCC Form 499-Q, reporting their revenues for the prior quarter, by the beginning of the second month in each quarter (i.e., February 1, May 1, April 1, and November 1). Carriers will continue to file FCC Form 499-A annually as they are required to do under the existing methodology. (No. of respondents: 3500 filing annually and 2000 filing quarterly; hours per response: 9.5 hours for the annual filing and 6 hours per respondent for each quarterly filing; total annual burden: 81,250). Data filed on the worksheets will be used to calculate contributions to the universal service support mechanisms. Copies of the worksheets and instructions may be downloaded from the Commission's forms web page (www.fcc.gov/formpage.html). Copies may also be obtained from NECA at 973-560-4400. Obligation to respond: Mandatory.

OMB Control No.: 3060-0804.

Expiration Date: 9/30/2001.

Title: Universal Service—Health Care Providers Universal Service Program.

Form No.: FCC Forms 465, 466, 466-A, 467, 468.

Respondents: Not-for-profit institutions; Business or other for-profit.

Estimated Annual Burden: 5255 respondents; 1.85 hours per response (avg.); 9755 total annual burden hours.

Estimated Annual Reporting and Recordkeeping Cost Burden: $0.

Frequency of Response: On occasion; Third Party Disclosure.

Description: The Telecommunications Act of 1996 (1996 Act) directed the Commission to initiate a rulemaking reform to our system of universal service so that universal service is preserved and advanced as markets move toward competition. On May 8, 1997, the Commission adopted rules providing, among other things, that rural health care providers receive access to advanced telecommunications services at rates that are reasonably comparable to those available in urban areas. All rural health care providers planning to order eligible telecommunications services at discounted rates under the universal service program must file the following forms: FCC Form 465, Description of Service Requested and Certification. Rural health care providers ordering discounted telecommunications services under the universal service program must submit FCC Form 465, Description of Service Requested and Certification to the Administrator. Rural health care providers must certify their eligibility to receive discounted telecommunications services. 47 CFR Section 54.615(c). The Administrator will then post a description of the services sought on a website for all potential competing service providers to see and respond to as if they were requests for proposals (RFPs). (No. of respondents: 1200; hours per response: 2.5 hours; total annual burden: 300 hours). b. FCC Form 466, Funding Request and Certification. Rural health care providers that have ordered telecommunications under the universal service discount program must file FCC Form 466, Funding Request and Certification Form, with the Administrator. The data reported will be used to ensure that health care providers have selected the most cost-effective method of providing the requested services. 47 CFR Section 54.603(b)(4). (No. of respondents: 1350; hours per response: 2 hours; total annual burden: 2700 hours). c. FCC Form 466-A, Internet Toll Charge Discount Request. If a rural health care provider is only seeking support for toll charges to access the Internet, it must submit FCC Form 466-A. (No. of respondents: 5; hours per response: 1 hour; total annual burden: 5 hours). d. FCC Form 467, Connection Certification. Rural health care providers participating in the universal service support mechanism must submit FCC Form 467 to inform the Administrator that they have begun to receive, or have stopped receiving, the telecommunications services for which universal service support has been allocated. The data reported will be used to ensure that universal service support is distributed to telecommunications carriers serving eligible health care providers pursuant to 47 CFR Section 54.611. (No. of respondents: 1350; hours per response: 1.5 hours; total annual burden: 2025 hours). e. FCC Form 468, Telecommunications Carrier Form. Rural health care providers ordering telecommunications services under the universal service support mechanism must submit FCC Form 468, Telecommunications Carrier Form to the Administrator. The data reported will be used to ensure that the telecommunications carrier receives the appropriate amount of credit for providing telecommunications services to eligible health care providers. 47 CFR Sections 54.605-611. (No. of respondents; 1350; hours per response: 1.5 hours; total annual burden: 2025 hours). FCC Forms 466, 467 and 468 were recently revised. Copies of all the above-mentioned forms may be downloaded from the Administrator's website at (www.universalservice.org). Copies of the forms may also be obtained by calling the Universal Service Administrative Corporation, Rural Health Care Division at 1-800-229-5476. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-10224 Filed 4-24-01; 8:45 am]

BILLING CODE 6712-01-P